SECURITIES AND EXCHANGE COMMISSION

[File No. 500-1]

In the Matter of: Score One, Inc., Physical Property Holdings, Inc.; Order of Suspension of Trading

December 19, 2007.

It appears to the Securities and Exchange Commission that there is a lack of current and accurate information concerning the securities of the issuers listed below. For each issuer, questions have arisen regarding the adequacy and accuracy of press releases and other publicly-disseminated information concerning, among other things: (1) The companies' assets; (2) the companies' current business operations; (3) the companies' current financial condition; (4) the issuance of the companies' securities; and (5) transactions in the companies' securities by insiders, consultants, and other individuals and entities.

1. Score One, Inc. is a Nevada corporation headquartered in Hong Kong. The company is dually quoted on the Over-the-Counter Bulletin Board and Pink Sheets under the ticker symbol “SREA.” The company has recently been the subject of spam e-mails touting the company's shares.

2. Physical Property Holdings, Inc. is a Delaware corporation headquartered in Hong Kong. The company is dually quoted on the Over-the-Counter Bulletin Board and Pink Sheets under the ticker symbol “PPYH.” The company has recently been the subject of spam e-mails touting the company's shares.

The Commission is of the opinion that the public interest and the protection of investors require a suspension of trading in the securities of Score One, Inc. and Physical Property Holdings, Inc.

Therefore, it is ordered, pursuant to section 12(k) of the Securities Exchange Act of 1934, that trading in the securities of Score One, Inc. and Physical Property Holdings, Inc. is suspended for the period commencing at 9:30 a.m. EST, December 19, 2007, and terminating at 11:59 p.m. EST, on January 3, 2008.

By the Commission.
Nancy M. Morris,
Secretary.

[FR Doc. 07-6174 Filed 12-19-07; 10:15 am]

BILLING CODE 8011-01-P